DEPARTMENT OF HEALTH AND HUMAN SERVICES

Administration for Children and Families

Proposed Information Collection Activity; Comment Request

Title: National Survey of Child and Adolescent Well-Being-Third Cohort (NSCAW III): Data Collection

OMB No.: 0970-0202

Description: The Administration for Children and Families (ACF) within the U.S. Department of Health and Human Services (HHS) intends to collect data on a third cohort of children and families for the National Survey of Child and Adolescent Well-Being (NSCAW III). NSCAW is the only source of nationally representative, longitudinal, firsthand information about the functioning and well-being, service needs, and service utilization of children and families who come to the attention of the child welfare system. Information is collected about children's cognitive, social, emotional, behavioral, and adaptive functioning, as well as family and community factors that are likely to influence their functioning. Family service needs and service utilization also are addressed in the data collection.

A previous notice provided the opportunity for public comment on the proposed Phase 1 recruitment and sampling process (FR V.81, 4/8/2016). This notice is specific to the Phase 2 data collection activities: (1) baseline and (2) 18-month follow-up data collection. Data collection includes child interviews and direct assessments, as well as caregiver and caseworker interviews. The overall goal is to maintain the strengths and continuity of the prior surveys while better positioning the study to address changes in the child welfare population.

Respondents: Children, and their associated caregivers and caseworkers.

Annual Burden Estimates
Instrument | Total number of respondents | Annual number of respondents (rounded) | Number of responses per respondent | Average burden hours per response | Annual burden hours
Baseline
Child Interview and Direct Assessments | 4,565 | 1,522 | 1 | 1.33 | 2,024
Caregiver Interview | 4,565 | 1,522 | 1 | 1.67 | 2,542
Caseworker Interview | 1,826 | 609 | 3 | .75 | 1,370
18-Month Follow-up
Child Interview and Direct Assessment | 3,650 | 1,217 | 1 | 1.33 | 1,619
Caregiver Interview | 3,650 | 1,217 | 1 | 1.67 | 2,032
Caseworker Interview | 840 | 280 | 3 | 1.0 | 840
Estimated Total Annual Burden Hours: |  |  |  |  | 10,427

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2016-28431 Filed 11-25-16; 8:45 am]

BILLING CODE 4184-01-P